DEPARTMENT OF HOMELAND SECURITY

Transportation Security Administration

49 CFR Part 1510

[Docket No. TSA-2001-11120; Amendment No. 1510-4]

RIN 1652-AA68

Adjustment of Passenger Civil Aviation Security Service Fee; Interim Final Rule; Correction

AGENCY: Transportation Security Administration (TSA), DHS.

ACTION: Interim final rule; request for comments; correction.

SUMMARY: The Transportation Security Administration (TSA) is correcting an interim final rule (IFR) published in the Federal Register on June 20, 2014. This IFR implements amendments to 49 U.S.C. 44940, which authorizes TSA to impose fees to defray the government's costs for providing civil aviation security services, such as those related to screening personnel, screening equipment, and other specified security services.¹ That document inadvertently failed to note the proper citation in a footnote in the Background section. This document corrects the interim final rule by revising this section.

¹ See 49 U.S.C. 44940(a)(1) (enumerating specific aviation security services intended to be funded at least in part by the fee referenced herein).

DATES: Effective Date: This IFR is effective at 12:00 a.m. (Eastern Daylight Time) on July 21, 2014.

Comment Date: Comments must be received by August 19, 2014.

FOR FURTHER INFORMATION CONTACT: Michael Gambone, Office of Revenue, TSA-14, Transportation Security Administration, 601 South 12th Street, Arlington, VA 20598-6014; telephone (571) 227-2323; email tsa-fees@dhs.gov.

SUPPLEMENTARY INFORMATION: In FR Doc. 2014-14488 appearing on page 35463 in the Federal Register of Friday, June 20, 2014, the following correction is made:

Correction

In FR Doc. 2014-14488, published on June 20, 2014 (79 FR 35461), make the following correction:

1. On page 35463, in the first column, footnote three is corrected to read as follows:

“ ³ Consistent with 49 U.S.C. 40102(a)(5), “air transportation” means “foreign air transportation, interstate air transportation, or the transportation of mail by aircraft.”

Dated: June 24, 2014.
Traci Klemm,
Assistant Chief Counsel for Multi Modal Security Standards.

[FR Doc. 2014-15162 Filed 6-26-14; 8:45 am]

BILLING CODE 9110-05-P